FEDERAL COMMUNICATIONS COMMISSION

Notice of Public Information Collection(s) Being Submitted to OMB for Review and Approval

September 26, 2002.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 7, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-XXXX.

Title: Section 25.139, NGSO FSS Coordination and Information Sharing Between MVDDS Licensees in the 12.2 GHz to 12.7 GHz Band.

Form Number: N/A.

Type of Review: New collection.

Respondents: Business or other for-profit entities.

Number of Respondents: 6.

Estimated Time per Response: 6 hours.

Frequency of Response: On occasion reporting requirements; Third party disclosure.

Total Annual Burden: 36 hours.

Total Annual Costs: None.

Needs and Uses: On May 23, 2002, the FCC released a Memorandum Opinion and Order and Second Report and Order, ET Docket No. 98-206, FCC 02-116, which requires NGSO FSS licensees to maintain a subscriber database in a format that can be readily shared with Multichannel Video Distribution and Data Service (MVDDS) licensees for the purpose of determining compliance with the MVDDS transmitting antenna spacing requirement relating to qualifying existing NGSO FSS subscriber receivers set forth in 47 CFR 101.129.

OMB Control Number: 3060-XXXX.

Title: Section 101.103, Frequency Coordination Procedures.

Form Number: N/A.

Type of Review: New collection.

Respondents: Business and other for-profit entities.

Number of Respondents: 354.

Estimated Time per Response: 0.5 hours.

Frequency of Response: On occasion reporting requirements; Third party disclosure.

Total Annual Burden: 177 hours.

Total Annual Costs: None.

Needs and Uses: On May 23, 2002, the FCC released a Memorandum Opinion and Order and Second Report and Order, ET Docket No. 98-206, FCC 02-116, which requires Multichannel Video Distribution and Data Service (MVDDS) licensees to provide notice of intent to construct a proposed antenna to NGSO FSS licensees operating in the 12.2-12.7 GHz frequency band and to maintain an Internet web site of all existing transmitting sites and transmitting antennas that are scheduled for operation within one year including the “in service” dates.

OMB Control Number: 3060-XXXX.

Title: Section 101.1403, Broadcast Carriage Requirements.

Form Number: N/A.

Type of Review: New collection.

Respondents: Business and other for-profit entities.

Number of Respondents: 354.

Estimated Time per Response: 1.0 hours.

Frequency of Response: On occasion reporting requirements; Third party disclosure.

Total Annual Burden: 354 hours.

Total Annual Costs: None.

Needs and Uses: On May 23, 2002, the FCC released a Memorandum Opinion and Order and Second Report and Order, ET Docket No. 98-206, FCC 02-116, which requires Multichannel Video Distribution and Data Service (MVDDS) respondents that meet the statutory definition of Multiple Video Programming Distributor (MVPD) to comply with the broadcast carriage requirements located at 47 U.S.C 325(b)(1). Any MVDDS licensee that is an MVPD must obtain the prior express authority of a broadcast station before retransmitting that station's signal, subject to the exceptions contained in section 325(b)(2) of the Communications Act of 1934, as amended.

OMB Control Number: 3060-XXXX.

Title: Section 101.1413, License Term and Renewal Expectancy.

Form Number: N/A.

Type of Review: New collection.

Respondents: Business and other for-profit entities.

Number of Respondents: 354.

Estimated Time per Response: 0.5 hours.

Frequency of Response: On occasion and ten year reporting requirements; Third party disclosure.

Total Annual Burden: 177 hours.

Total Annual Costs: $8,900.

Needs and Uses: On May 23, 2002, the FCC released a Memorandum Opinion and Order and Second Report and Order, ET Docket No. 98-206, FCC 02-116, which requires Multichannel Video Distribution and Data Service (MVDDS) renewal applicants to comply with the requirements to provide substantial service by the end of the ten-year initial license term.

OMB Control Number: 3060-XXXX.

Title: Section 101.1417, Annual Report.

Form Number: N/A.

Type of Review: New collection.

Respondents: Business and other for-profit entities.

Number of Respondents: 354.

Estimated Time per Response: 1.0 hours.

Respondents: Business and other for-profit entities.

Frequency of Response: Annual reporting requirements.

Total Annual Burden: 354 hours.

Total Annual Costs: None.

Needs and Uses: On May 23, 2002, the FCC released a Memorandum Opinion and Order and Second Report and Order (MO&O and 2nd R&O), which requires Multichannel Video Distribution and Data Service (MVDDS) licensees to file two copies of a “licensee information report” by March 1st of each year with the FCC, for the proceeding calendar year. This report must include the name and address of the licensee, station(s) call letters and primary geographic service area(s), and statistical data for the licensee's station(s). This report enables the Commission to keep track of the number of MVDDS licensee stations.

OMB Control Number: 3060-XXXX.

Title: Section 101.1440, MVDDS Protection of Direct Broadcast Satellites (DBS).

Form Number: N/A.

Type of Review: New collection.

Respondents: Business and other for-profit entities.

Number of Respondents: 354.

Estimated Time per Response: 40.0 hours.

Respondents: Business and other for-profit entities.

Frequency of Response: On occasion reporting requirements; Third party disclosure.

Total Annual Burden: 14,160 hours.

Total Annual Costs: None.

Needs and Uses: On May 23, 2002, the FCC released a Memorandum Opinion and Order and Second Report and Order (MO&O and 2nd R&O), ET Docket No. 98-206, FCC 02-116, which requires Multichannel Video Distribution and Data Service (MVDDS) licensees to conduct a survey of the area around its proposed transmitting antenna site to determine the location of all DBS customers that may potentially be effected by the introduction of its MVDDS service. This MO&O and 2nd R&O will ensure that Multichannel Video Distribution and Data Service (MVDDS) signal will not be in excess of the appropriate Equivalent Power Flux Density (EPFD) limits as written in 47 CFR 101.105(a)(4)(ii)(B) is causing interference to DBS customers. If the MVDDS licensee determines that its signal level will exceed the EPFD limit at any DBS customer site, it shall take whatever steps are necessary, up to and including finding a new transmission site.

Federal Communications Commission.
Marlene Dortch,
Secretary.

[FR Doc. 02-25477 Filed 10-7-02; 8:45 am]

BILLING CODE 6712-01-P